ENVIRONMENTAL PROTECTION AGENCY

[R04-OAR-2005-TN-00006-200525; FRL-7970-1]

Adequacy Status of the Nashville 1-Hour Ozone Maintenance Plan Update for Transportation Conformity Purposes

AGENCY: Environmental Protection Agency (EPA).

ACTION: Notice of adequacy.

SUMMARY: In this notice, EPA is notifying the public that we have found that the motor vehicle emissions budgets (MVEBs) submitted in the Nashville (Middle Tennessee) 1-hour ozone maintenance plan update, dated August 10, 2005, by the Tennessee Department of Environment and Conservation (TDEC), are adequate for transportation conformity purposes. On March 2, 1999, the DC Circuit Court ruled that MVEBs submitted in state implementation plans (SIPs) cannot be used for transportation conformity determinations until EPA has affirmatively found them adequate. As a result of EPA's finding, the Nashville area can use the MVEBs from the submitted Nashville 1-hour ozone maintenance plan update for future conformity determinations.

DATES: These MVEBs are effective October 3, 2005.

FOR FURTHER INFORMATION CONTACT: Amanetta Wood, Environmental Scientist, U.S. Environmental Protection Agency, Region 4, Air Planning Branch, Air Quality Modeling and Transportation Section, 61 Forsyth Street, SW., Atlanta, Georgia 30303. Ms. Wood can also be reached by telephone at (404) 562-9025, or via electronic mail at wood.amanetta@epa.gov. The finding is available at EPA's conformity Web site: http://www.epa.gov/otaq/transp.htm (once there, click on the “Transportation Conformity” text icon, then look for “Adequacy Review of SIP Submissions”).

SUPPLEMENTARY INFORMATION:

Background

Today's notice is simply an announcement of a finding that EPA has already made. EPA Region 4 sent a letter to TDEC on August 16, 2005, stating that the MVEBs submitted in the Nashville 1-hour ozone maintenance plan update dated August 10, 2005, are adequate. EPA's adequacy comment period ran from June 9 through July 11, 2005. This finding has also been announced on EPA's conformity Web site: http://www.epa.gov/otaq/transp.htm, (once there, click “Transportation Conformity” text icon, then look for “Adequacy Review of SIP Submissions”). The adequate MVEBs are provided in the following table:

Nashville Area MVEBs
[Tons per day]
| 2016
VOC | 21.93
NOX | 45.76

Transportation conformity is required by section 176 (c) of the Clean Air Act. EPA's conformity rule requires that transportation plans, programs and projects conform to state air quality implementation plans and establishes the criteria and procedures for determining whether or not they do. Conformity to a SIP means that transportation activities will not produce new air quality violations, worsen existing violations, or delay timely attainment of the national ambient air quality standards.

The criteria by which EPA determines whether a SIP's MVEBs are adequate for transportation conformity purposes are outlined in 40 CFR 93.118(e)(4). Please note that an adequacy review is separate from EPA's SIP submittal completeness review, and it also should not be used to prejudge EPA's ultimate approval of the SIP. Even if EPA finds the MVEBs adequate, the Agency may later determine that the SIP itself is not approvable.

EPA has described the process for determining the adequacy of submitted SIP budgets in guidance (May 14, 1999 memorandum entitled “Conformity Guidance on Implementation of March 2, 1999 Conformity Court Decision”). EPA has followed this guidance in making this adequacy determination. This guidance is incorporated into EPA's July 1, 2004, final rulemaking entitled “Transportation Conformity Rule Amendments for the New 8-hour Ozone and PM2.5 National Ambient Air Quality Standards and Miscellaneous Revisions for Existing Areas; Transportation Conformity Rule Amendments: Response to Court Decision and Additional Rule Changes” (69 FR 40004).

Dated: September 1, 2005.
A. Stanley Meiburg,
Acting Regional Administrator, Region 4.

[FR Doc. 05-18424 Filed 9-15-05; 8:45 am]

BILLING CODE 6560-50-P